DEPARTMENT OF ENERGY

Federal Energy Regulatory Commission

[Docket No. EG01-277-000, et al.]

Acadia Power Partners, LLC, et al. Electric Rate and Corporate Regulation Filings

August 13, 2001.

Take notice that the following filings have been made with the Commission:

1. Acadia Power Partners, LLC

[Docket No. EG01-277-000]

Take notice that on August 6, 2001, Acadia Power Partners, LLC (Acadia) filed with the Federal Energy Regulatory Commission an application for determination of exempt wholesale generator status pursuant to part 365 of the Commission's regulations.

Acadia, a Louisiana limited liability company, proposes to own and operate an electric generating facility and sell the output at wholesale to electric utilities, an affiliated power marketer and other purchasers. The facility is a natural gas-fired, combined cycle generating facility, which is under construction near Eunice, Louisiana.

Comment date: September 4, 2001, in accordance with Standard Paragraph E at the end of this notice. The Commission will limit its consideration of comments to those that concern the adequacy or accuracy of the application.

2. Duke Energy Lee, LLC

[Docket No. ER01-1988-001]

Take notice that on August 6,2001, Duke Energy Lee, LLC (Duke Lee) tendered for filing its revised Emergency Redispatch Tariff in compliance with the Federal Energy Regulatory Commission's (Commission) letter order of July 6, 2001.

Comment date: August 27, 2001, in accordance with Standard Paragraph E at the end of this notice.

3. Kansas City Power & Light Co

[Docket No. ER01-2200-001]

Take notice that on August 6, 2001, Kansas City Power & Light Company (KCPL) filed the designation page to Service Agreement No. 24 under its FERC Electric Tariff, First Revised Volume No. 4, providing for the long-term sale of capacity and energy to the City Utilities of Springfield, Missouri. This filing was made to comply with the Order of the Commission in this docket issued on July 23, 2001.

Comment date: August 27, 2001, in accordance with Standard Paragraph E at the end of this notice.

4. ODEC Power Trading, Inc.

[Docket No. ER01-2783-000]

Take notice that on August 7, 2001, ODEC Power Trading, Inc. (OPT) filed a Petition for blanket authority to sell wholesale power at market-based rates. OPT's Petition is filed pursuant to Section 205 of the Federal Power Act and Rules 205 and 207 of Commission's rules of Practice and Procedure, 18 CFR 385.205 and 385.207. OPT also seeks waiver of the 60-day notice requirement of 18 CFR 35.3 in order to permit OPT to commence sales of power at market-based rates as of the earlier of 60 days from the date of the filing of its Petition or the date of an order accepting its market-based rate schedule.

Comment date: August 28, 2001, in accordance with Standard Paragraph E at the end of this notice.

5. Pacific Gas and Electric Company

[Docket No. ER01-2791-000]

Take notice that on August 6, 2001, Pacific Gas and Electric Company (PG&E) tendered for filing an agreement entitled Special Facilities Agreement for the Interconnection of the City of Santa Clara's 115kV Northern Receiving Station (SFA) between PG&E and the City of Santa Clara (CSC) (collectively, Parties).The SFA permits PG&E to recover its costs for installing, owning, operating and maintaining Special Facilities necessary for the interconnection of a new CSC receiving station with PG&E's transmission system. PG&E has requested certain waivers.

Copies of this filing have been served upon CSC, the California Independent System Operator, and the California Public Utilities Commission (CPUC).

Comment date: August 27, 2001, in accordance with Standard Paragraph E at the end of this notice.

6. California Independent System Operator Corporation

[Docket No. ER01-2792-000]

Take notice that the California Independent System Operator Corporation, (ISO) on August 6, 2001, tendered for filing a Participating Generator Agreement between the ISO and Wellhead Power Panoche, LLC for acceptance by the Commission. The ISO states that this filing has been served on Wellhead Power Paonoche, LLC and the California Public Utilities Commission.

The ISO is requesting waiver of the 60-day notice requirement to allow the Participating Generator Agreement to be made effective July 31, 2001.

Comment date: August 27, 2001, in accordance with Standard Paragraph E at the end of this notice.

7. California Independent System Operator Corporation

[Docket No. ER01-2793-000]

Take notice that the California Independent System Operator Corporation, (ISO) on August 6, 2001, tendered for filing a Participating Generator Agreement between the ISO and Wellhead Power Gates, LLC for acceptance by the Commission. The ISO states that this filing has been served on Wellhead Power Gates, LLC and the California Public Utilities Commission.

The ISO is requesting waiver of the 60-day notice requirement to allow the Participating Generator Agreement to be made effective July 31, 2001.

Comment date: August 27, 2001, in accordance with Standard Paragraph E at the end of this notice.

8. Exelon Generation Company, LLC

[Docket No. ER01-2794-000]

Take notice that on August 6, 2001, Exelon Generation Company, LLC, filed with the Federal Energy Regulatory Commission its market-based rate wholesale power sales tariff, FERC Electric Tariff Original Volume No. 2 (Tariff No. 2).

Comment date: August 27, 2001, in accordance with Standard Paragraph E at the end of this notice.

9. California Independent System Operator Corporation

[Docket No. ER01-2795-000]

Take notice that the California Independent System Operator Corporation, (ISO) on August 6, 2001, tendered for filing a Meter Service Agreement for ISO Metered Entities between the ISO and Wellhead Power Gates, LLC for acceptance by the Commission. The ISO states that this filing has been served on Wellhead Power Gates, LLC and the California Public Utilities Commission.

The ISO is requesting waiver of the 60-day notice requirement to allow the Meter Service Agreement for ISO Metered Entities to be made effective July 31, 2001.

Comment date: August 27, 2001, in accordance with Standard Paragraph E at the end of this notice.

10. California Independent System Operator Corporation

[Docket No. ER01-2796-000]

Take notice that the California Independent System Operator Corporation, (ISO) on August 6, 2001, tendered for filing a Meter Service Agreement for ISO Metered Entities between the ISO and Wellhead Power Panoche, LLC for acceptance by the Commission.The ISO states that this filing has been served on Wellhead Power Panoche, LLC and the California Public Utilities Commission.

The ISO is requesting waiver of the 60-day notice requirement to allow the Meter Service Agreement for ISO Metered Entities to be made effective July 31, 2001.

Comment date: August 27, 2001, in accordance with Standard Paragraph E at the end of this notice.

11. California Independent System Operator Corporation

[Docket No. ER01-2797-000]

Take notice that the California Independent System Operator Corporation, (ISO) on August 7, 2001, tendered for filing a Participating Generator Agreement between the ISO and Wellhead Power Tesla, LLC for acceptance by the Commission. The ISO states that this filing has been served on Wellhead Power Tesla, LLC and the California Public Utilities Commission.

The ISO is requesting waiver of the 60-day notice requirement to allow the Participating Generator Agreement to be made effective July 31, 2001.

Comment date: August 28, 2001, in accordance with Standard Paragraph E at the end of this notice.

12. Poquonock River Funding, L.L.C.

[Docket No. ER01-2799-000]

Take notice that on August 7, 2001, Poquonock River Funding, L.L.C. (Poquonock), filed with the Federal Energy Regulatory Commission an application for approval of its initial rate schedule (FERC Electric Tariff Original Volume No. 1), and for blanket approval for market-based rates pursuant to Part 35 of the Commission's regulations.

Poquonock is a limited liability company formed under the laws of Delaware. Poquonock does not own any generating facilities.

Comment date: August 28, 2001, in accordance with Standard Paragraph E at the end of this notice.

13. California Independent System Operator Corporation

[Docket No. ER01-2800-000]

Take notice that the California Independent System Operator Corporation, (ISO) on August 7, 2001, tendered for filing a Meter Service Agreement for ISO Metered Entities between the ISO and Wellhead Power Tesla, LLC for acceptance by the Commission.The ISO states that this filing has been served on Wellhead Power Tesla, LLC and the California Public Utilities Commission.

The ISO is requesting waiver of the 60-day notice requirement to allow the Meter Service Agreement for ISO Metered Entities to be made effective July 31, 2001.

Comment date: August 28, 2001, in accordance with Standard Paragraph E at the end of this notice.

14. Arizona Public Service Company

[Docket No. ER99-3288-003]

Take notice that on August 6, 2001, Arizona Public Service Company (APS) tendered for filing Quarterly Refund payments to eligible wholesale customers under the Company's Fuel Cost Adjustment Clause (FAC).

A copy of this filing has been served upon the affected parties, the California Public Utilities Commission, and the Arizona Corporation Commission.

Comment date: August 27, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-20775 Filed 8-16-01; 8:45 am]

BILLING CODE 6717-01-P